DEPARTMENT OF JUSTICE

[OMB Number 1117-0024]

Agency Information Collection Activities; Proposed eCollection eComments Requested; Revision of a Previously Approved Collection; Report of Loss or Disappearance of Listed Chemicals and Regulated Transactions in Tableting/Encapsulating Machines

AGENCY: Drug Enforcement Administration, Department of Justice.

ACTION: 60-Day notice.

SUMMARY: The Drug Enforcement Administration (DEA), Department of Justice (DOJ), will be submitting the following information collection request to the Office of Management and Budget (OMB) for review and approval in accordance with the Paperwork Reduction Act of 1995.

DATES: Comments are encouraged and will be accepted for 60 days until November 13, 2023.

FOR FURTHER INFORMATION CONTACT: If you have additional comments especially on the estimated public burden or associated response time, suggestions, or need a copy of the proposed information collection instrument with instructions or additional information, please contact Scott A Brinks, Regulatory Drafting and Policy Support Section, Drug Enforcement Administration; Mailing Address: 8701 Morrissette Drive, Springfield, Virginia 22152; Telephone: (571) 362-3261, Email: scott.a.brinks@dea.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Each regulated person is required to report any unusual or excessive loss or disappearance of a listed chemical, and any regulated transaction in a tableting or encapsulating machine, to include any domestic regulated transaction in a tableting or encapsulating machine and any import or export of a tableting or encapsulating machine. 21 U.S.C. 830 (b)(1)(A), (C) and (D); 21 CFR 1310.05(a)(1), (3)-(4); 21 CFR 1310.05(c). Regulated persons include manufacturers, distributors, importers, and exporters of listed chemicals, tableting machines, or encapsulating machines, or persons who serve as brokers or traders for international transactions involving a listed chemical, tableting machine, or encapsulating machine. 21 CFR 1300.02(b). This report will be submitted electronically. DEA will be modifying this collection (1117-0024) and collection 1117-0001 by removing Form 107 from this collection and adding it to 1117-0001 because DEA Form 107 is more aligned with DEA Form 106 (which is approved under 1117-0001).

Overview of This Information Collection

1. Type of Information Collection: Revision of a previously approved collection.

2. The Title of the Form/Collection: Report of Loss or Disappearance of Listed Chemicals and Regulated Transactions in Tableting/Encapsulating Machines.

3. The agency form number, if any, and the applicable component of the Department sponsoring the collection: DEA Form 452. The applicable component within the Department of Justice is the Drug Enforcement Administration, Office of Diversion Control.

4. Affected public who will be asked or required to respond, as well as the obligation to respond: Affected Public (Primary): Private Sector—businesses or other for-profit institutions, and not-for-profit institutions. Other: State, local and tribal governments, Federal Government. The obligation to respond is mandatory per 21 21 CFR 1310.05(a)(1), (3)-(4); 21 CFR 1310.05(c).

5. An estimate of the total number of respondents and the amount of time estimated for an average respondent to respond: DEA estimates that 274 persons respond as needed to this collection. Responses take 0.33 minutes.

6. An estimate of the total annual burden (in hours) associated with the collection: DEA estimates that this collection takes 8,367 annual burden hours.

7. An estimate of the total annual cost burden associated with the collection, if applicable: $0.

Total Burden Hours
Activity | Number of respondents | Frequency | Total annual responses | Time per response (mins) | Total annual burden (hours)
DEA-452 | 274 | 92 | 25,208 | .33 | 8,367
Unduplicated Totals | 274 |  | 25,101 |  | 8,367

If additional information is required contact: Darwin Arceo, Department Clearance Officer, United States Department of Justice, Justice Management Division, Policy and Planning Staff, Two Constitution Square, 145 N Street NE, 4W-218, Washington, DC.

Dated: September 5, 2023.
Darwin Arceo,
Department Clearance Officer for PRA, U.S. Department of Justice.

[FR Doc. 2023-19538 Filed 9-8-23; 8:45 am]

BILLING CODE 4410-09-P